DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 13, 2006.

Interested persons are invited to submit written comments regarding the subject matter of the investigations to the Director, Division of Trade Adjustment Assistance, at the address shown below, not later than November 13, 2006.

The petitions filed in this case are available for inspection at the Office of the Director, Division of Trade Adjustment Assistance, Employment and Training Administration, U.S. Department of Labor, Room C-5311, 200 Constitution Avenue, NW., Washington, DC 20210.

Signed at Washington, DC this 10th day of October 2006.
Linda G. Poole,
Certifying Officer, Division of Trade Adjustment Assistance.

Appendix
[TAA petitions instituted between 10/2/06 and 10/6/06]
TA-W | Subject firm (petitioners) | Location | Date of institution | Date of petition
60172 | Sunshine Scholl Uniforms (Wkrs) | Medley, FL | 10/02/06 | 09/27/06
60173 | LeRocato Manufacturing, Inc. (State) | Plainfield, CT | 10/02/06 | 09/29/06
60174 | Tyson Frest Foods (Wkrs) | Wallula, WA | 10/02/06 | 09/28/06
60175 | Terrisol Corp. (Comp) | Troutman, NC | 10/02/06 | 09/29/06
60176 | Flextronics (Wkrs) | San Jose, CA | 10/02/06 | 09/29/06
60177 | Hooker Furniture Corp. (Comp) | Martinsville, VA | 10/02/06 | 09/29/06
60178 | Trafalga (State) | Norwalk, CT | 10/02/06 | 09/29/06
60179 | Tenneco—Napoleon (Union) | Napoleon, OH | 10/02/06 | 10/02/06
60180 | Cadence Innovation (State) | Chesterfield, MI | 10/02/06 | 10/02/06
60181 | Custom Fashions, Inc. (Comp) | Tupelo, MS | 10/02/06 | 10/02/06
60182 | Oak Lawn Packaging, Inc. (State) | Fort Smith, AR | 10/03/06 | 10/02/06
60183 | Signature Fruit Company, LLC (Union) | Modesto, CA | 10/03/06 | 09/28/06
60184 | Bellsouth Telecommunications (Wkrs) | Paducah, KY | 10/03/06 | 10/02/06
60185 | Southern Steel and Wire Co. (State) | Fort Smith, AR | 10/03/06 | 10/02/06
60186 | Deltak, LLC (State) | Plymouth, MN | 10/03/06 | 10/02/06
60187 | PCC Airfoils, LLC (Comp) | Douglas, GA | 10/03/06 | 10/02/06
60188 | Jackson furniture Industries (Comp) | Cleveland, TN | 10/03/06 | 09/15/06
60189 | Sebago/Wolverine (State) | Portland, ME | 10/03/06 | 10/02/06
60190 | Cooper Power Tools, Inc. (Union) | Dayton, OH | 10/03/06 | 09/27/06
60191 | Hamilton Beach/Proctor-Silex, Inc. (Comp) | Southern Pines, NC | 10/03/06 | 10/02/06
60192 | Black and Decker (Comp) | Charlotte, NC | 10/03/06 | 09/20/06
60193 | Ilpea (State) | Ft. Smith, AR | 10/03/06 | 09/29/06
60194 | Innovex, Inc. (State) | Litchfield, MN | 10/03/06 | 10/03/06
60195 | Kidde Residential and Commercial (Comp) | Mebane, NC | 10/03/06 | 10/01/06
60196 | TRW Automotive (State) | Rushford, MN | 10/03/06 | 10/03/06
60197 | C and C Smith Lumber Co., Inc. (Comp) | Summerhill, PA | 10/03/06 | 10/03/06
60198 | Westark Diversified Enterprise (State) | Ft. Smith, AR | 10/03/06 | 10/02/06
60199 | Airtex Products (Wkrs) | Fairfield, IL | 10/04/06 | 10/03/06
60200 | Fiskars Brands, Inc. (Comp) | Spencer, WI | 10/04/06 | 10/04/06
60201 | Weyerhaeuser Raymond Lumber Mill (Union) | Raymond, WA | 10/04/06 | 10/04/06
60202 | Goodyear Tire and Rubber Co. (USWA) | St. Marys, OH | 10/04/06 | 09/28/06
60203 | Performance Fibers (Comp) | Scottsboro, AL | 10/04/06 | 10/04/06
60204 | FAG Bearings (Comp) | Joplin, MO | 10/04/06 | 10/02/06
60205 | General Motors Vehicle Manufacturing (Wkrs) | Oklahoma City, OK | 10/05/06 | 09/27/06
60206 | Kentucky Derby Hosiery Co., Inc. (Comp) | Mt. Airy, NC | 10/05/06 | 10/02/06
60207 | Lego Systems, Inc. (Comp) | Enfield, CT | 10/05/06 | 10/04/06
60208 | Bauhaus USA, Inc. (Wkrs) | Sherman, MS | 10/05/06 | 10/04/06
60209 | Cowan Plastic Products Corp. (State) | Providence, RI | 10/05/06 | 10/04/06
60210 | Gutmann Leather, LLC (Comp) | Chicago, IL | 10/05/06 | 10/04/06
60211 | American Dryer Corporation (Wkrs) | Fall River, MA | 10/05/06 | 10/05/06
60212 | Standex Electronics (Wkrs) | Douglas, AZ | 10/05/06 | 10/04/06
60213 | InkCycle (State) | Lenexa, KS | 10/06/06 | 10/06/06
60214 | Multy Industries USA, Inc. (Comp) | Atlanta, GA | 10/06/06 | 10/05/06
60215 | Gold Star Coatings (State) | West Branch, MI | 10/06/06 | 10/06/06
60216 | Component Concepts, Inc. (Wkrs) | Thomasville, NC | 10/06/06 | 10/06/06
60217 | Z-Star Industries, Inc. (Comp) | Watertown, NY | 10/06/06 | 10/05/06
60218 | Alcoa Global Fasteners, Inc. (Comp) | Stoughton, MA | 10/06/06 | 09/25/06
60219 | Marathon Electric (CWA) | Lima, OH | 10/06/06 | 10/06/06
60220 | Ferrero International S.A. (State) | Caguas, PR | 10/06/06 | 10/02/06

[FR Doc. E6-18225 Filed 10-30-06; 8:45 am]

BILLING CODE 4510-30-P